DEPARTMENT OF COMMERCE

National Oceanic and Atmospheric Administration

RIN 0648-XE179

Pacific Fishery Management Council; Public Meeting

AGENCY: National Marine Fisheries Service (NMFS), National Oceanic and Atmospheric Administration (NOAA), Commerce.

ACTION: Notice of public meeting.

SUMMARY: The Pacific Fishery Management Council's (Pacific Council) Scientific and Statistical Committee (SSC) Groundfish Subcommittee will hold a work session to review stock assessments for black rockfish off Oregon, new harvest specification projections for arrowtooth flounder, an updated rebuilding analysis for yelloweye rockfish, and a new proposed methodology for determining big skate harvest specifications.

DATES: The SSC's Groundfish Subcommittee meeting will be held beginning at 8:30 a.m., Monday, September 28, 2015 and end at 5:30 p.m. or as necessary to complete business for the day. The Subcommittee will reconvene on Tuesday, September 29, 2013 and will continue through Thursday, October 1, 2015 beginning at 8:30 a.m. and ending at 5:30 p.m. each day, or as necessary to complete business. The meeting may continue on Friday, October 2 at 8:30 a.m., if needed, to complete the subcommittee's business.

ADDRESSES: The SSC's Groundfish Subcommittee meeting will be held the National Marine Fishery Service Western Regional Center's Sand Point facility, Alaska Fisheries Science Center, 7600 Sand Point Way NE., Seattle, WA 98115; telephone: (206) 526-4000. The meeting will be held in Building 4, Traynor Room 2076 on September 28—October 1, 2015. If the SSC's Groundfish Subcommittee meeting needs to continue on Friday, October 2, 2015, the meeting will reconvene in Building 4, Observer Training Room 1055.

Council address: Pacific Council, 7700 NE Ambassador Place, Suite 101, Portland, OR 97220-1384.

FOR FURTHER INFORMATION CONTACT: Mr. John DeVore, Pacific Council; telephone: (503) 820-2413.

SUPPLEMENTARY INFORMATION: The purpose of the SSC's Groundfish Subcommittee meeting is to review draft 2015 stock assessment documents and any other pertinent information for new full stock assessment of black rockfish off Oregon, work with the Stock Assessment Teams to make necessary revisions, and produce a report for use by the Pacific Council family and other interested persons for developing management recommendations for fisheries in 2017 and beyond. Additionally, the SSC Groundfish Subcommittee will review an updated yelloweye rockfish rebuilding analysis, review new overfishing limit (OFL) projections for arrowtooth flounder, and review new methodology for determining a big skate OFL. No management actions will be decided by the SSC Groundfish Subcommittee. The Subcommittee's role will be development of recommendations and reports for consideration by the SSC and the Pacific Council at its November meeting in Garden Grove, California.

Although non-emergency issues not contained in the meeting agenda may come before the subcommittee meeting participants for discussion, those issues may not be the subject of formal action during this meeting. Subcommittee action will be restricted to those issues specifically listed in this notice and any issues arising after publication of this notice that require emergency action under Section 305(c) of the Magnuson-Stevens Fishery Conservation and Management Act, provided the public has been notified of the Subcommittee participants' intent to take final action to address the emergency.

All visitors to the National Marine Fisheries Service Western Regional Center's Sand Point facility should bring one of the following forms of identification:

• Enhanced Driver's License from the states of Washington, Minnesota, and New York

• U.S. Passport

• U.S. Passport Card

• U.S. Department of Defense CAC

• U.S. Federal agency HSPD-12 compliant ID cards

• U.S. Veterans ID

• U.S. Military Dependent's ID Card

• U.S. Trusted Traveler Card—Global Entry, SENTRI, or NEXUS

• U.S. Transportation Workers Identification Credential (TWIC)

• State-issued Real ID Compliant Driver's Licenses and Identification Cards.

Visitors who are foreign nationals (defined as a person who is not a citizen or national of the United States) will require additional security clearance to access the Western Regional Center's Sand Point facility. Foreign national visitors should contact Dr. Martin Dorn at (206) 526-6548 at least 2 weeks prior to the meeting date to initiate the security clearance process.

Special Accommodations

This meeting is physically accessible to people with disabilities. Requests for sign language interpretation or other auxiliary aids should be directed to Mr. Kris Kleinschmidt at (503) 820-2425 at least 5 days prior to the meeting date.

Dated: September 8, 2015.
Tracey L. Thompson,
Acting Deputy Director, Office of Sustainable Fisheries, National Marine Fisheries Service.

[FR Doc. 2015-22937 Filed 9-10-15; 8:45 am]

BILLING CODE 3510-22-P